DEPARTMENT OF COMMERCE

National Oceanic and Atmospheric Administration

50 CFR Part 679

[I.D. 111302E]

Fisheries of the Exclusive Economic Zone Off Alaska; Correction

AGENCY: National Marine Fisheries Service (NMFS), National Oceanic and Atmospheric Administration (NOAA), Commerce.

ACTION: Technical correction.

SUMMARY: NMFS is correcting typographic errors in Federal regulations. The intended effect of this action is regulatory accuracy, and it will have no effect on any person fishing in the EEZ for any species.

DATES: Effective November 29, 2002.

FOR FURTHER INFORMATION CONTACT: Patsy A. Bearden, 907-586-7008.

SUPPLEMENTARY INFORMATION: This action corrects typographical errors in regulations codified at 50 CFR part 679. In § 679.2, the definition heading for “KIFQ actual ex-vessel value” is corrected by removing “KIFQ” and adding in its place “IFQ”. Paragraph 679.7(f)(8)(ii)(B)(2) is corrected by removing “Pacific code” and adding in its place “Pacific cod”. This action will not have any substantive regulatory effect.

Classification

This action corrects typographic errors, a non-discretionary technical change with no substantive effects. Therefore, the Assistant Administrator for Fisheries, NOAA, finds good cause to waive the requirement to provide prior notice and opportunity for public comment under 5 U.S.C. 553(b)(B), as such procedure would be unnecessary. Because prior notice and opportunity for comment is not required for this action by 5 U.S.C. 553 or any other law, the analytical requirements of the Regulatory Flexibility Act, 5 U.S.C. 601 et seq. are not applicable.

List of Subjects in 50 CFR Part 679

Alaska, Fisheries, Recordkeeping and reporting requirements.

Dated: November 21, 2002.
John Oliver.
Deputy Assistant Administrator for Operations, National Marine Fisheries Service.

For the reasons set out in the preamble, 50 CFR part 679 is amended as follows:

PART 679--FISHERIES OF THE EXCLUSIVE ECONOMIC ZONE OFF ALASKA

1. The authority citation for part 679 continues to read as follows:

Authority: Authority: 16 U.S.C 773 et seq.; 1801 et seq. 3631 et seq.; Title II Division C, Pub. L. 105277; Sec. 3027, Pub. L. 10631; 113 Stat. 57; 16 U.S.C. 1540(f); and Sec. 209, Pub. L. 106554. et seq.

2. In § 679.2, the heading for the definition of “KIFQ actual ex-vessel value” is revised to read as follows, and the definition is placed in an alphabetical order:

§ 679.2 Definitions.

* * * * *

IFQ actual ex-vessel value. * * *

* * * * *

3. In § 679.7, paragraph (f)(8)(ii)(B)(2) is revised to read as follows:

§ 679.7 Prohibitions.

* * * * *

(f) * * *

(8) * * *

(ii)

(B) * * *

If the vessel operator ... | Then ...
* * * * * * *
(2) does not have an LLP groundfish license with a Pacific cod endorsement that meets the requirements of § 679.4(k)(9). | Pacific cod must not be discarded up to the retainable amount specified in Table 11 of this part unless Pacific cod are required to be discarded under subpart B of this part, or Pacific cod are not authorized to be retained under subpart A of this part.

[FR Doc. 02-30132 Filed 11-27-02; 8:45 am]

BILLING CODE 3510-22-S